NATIONAL AERONAUTICS AND SPACE ADMINISTRATION

Centennial Challenges 2010 Strong Tether Challenge

AGENCY: National Aeronautics and Space Administration (NASA).

ACTION: Notice.

SUMMARY: This notice is issued in accordance with 42 U.S.C. 2451 (314)(d). The 2010 Strong Tether Challenge is scheduled and teams that wish to compete may register. Centennial Challenges is a program of prize competitions to stimulate innovation in technologies of interest and value to NASA and the nation. The 2010 Strong Tether Challenge is a prize competition designed to encourage development of very strong, lightweight material for use in a multitude of structural applications. The Spaceward Foundation administers the Challenge for NASA. NASA is providing the prize purse.

DATES: 2010 Strong Tether Challenge will be held on August 13, 2010.

ADDRESSES: 2010 Strong Tether Challenge will be conducted at the 2010 Space Elevator Conference held at the Microsoft Conference Center, 16156 NE 36th St., Redmond, Washington.

FOR FURTHER INFORMATION CONTACT: To register for or get additional information regarding the 2010 Strong Tether Challenge, please visit: http://www.spaceward.org/elevator2010-ts.

For general information on the NASA Centennial Challenges Program please visit: http://www.nasa.gov/challenges. General questions and comments regarding the program should be addressed to Mr. Andrew Petro, Centennial Challenges Program, NASA Headquarters 300 E Street, SW., Washington, DC, 20546-0001. E-mail address: andrew.j.petro@nasa.gov.

SUPPLEMENTARY INFORMATION:

Summary

The competition consists of measuring the tensile strength of a tether material. There are requirements for maximum mass and minimum strength and length categories. The strongest sample that meets the criteria is eligible to win the specified prize.

I. Prize Amounts

The total 2010 Strong Tether Challenge purse is $2,000,000 (two million U.S. dollars). Incremental prizes will be offered for entries that meet specific requirements for strength and mass based on the length of the sample.

II. Eligibility

To be eligible to win a prize competitors must (1) register and comply with all requirements in the rules and team agreement; (2) in the case of a private entity, shall be incorporated in and maintain a primary place of business in the United States, and in the case of an individual, whether participating singly or in a group, shall be a citizen or permanent resident of the United States; and (3) shall not be a Federal entity or Federal employee acting within the scope of their employment.

III. Rules

The complete rules and team agreement for the 2010 Strong Tether Challenge can be found at: http://www.spaceward.org/elevator2010-ts.

Dated: July 30, 2010.
Douglas A. Comstock,
Director, Innovative Partnerships Program Office.

[FR Doc. 2010-19320 Filed 8-4-10; 8:45 am]

BILLING CODE 7510-13-P